DEPARTMENT OF THE INTERIOR

National Park Service

Cape Cod National Seashore Advisory Commission; Notice of Meeting

Notice is hereby given in accordance with the Federal Advisory Committee Act (Pub. L. 92-463, 86 Stat. 770, 5 U.S.C. App 1, section 10) that a meeting of the Cape Cod National Seashore Advisory Commission will be held on Friday, March 17, 2000.

The Commission was reestablished pursuant to Public Law 87-126 as amended by Public Law 105-280. The purpose of the Commission is to consult with the Secretary of the Interior or his designee, with respect to matters relating to the development of Cape Cod National Seashore, and with respect to carrying out the provisions of sections 4 and 5 of the Act establishing the Seashore. The Commission members will meet at 1 p.m. at Headquarters, Marconi Station, Wellfleet, MA for the regular business meeting to discuss the following:

1. Adoption of Agenda

2. Approval Minutes Previous 3 Meetings: October 1, 1999, November 19, 1999, January 14, 2000

3. Reports of Officers

4. Subcommittee Report—Personal Watercraft

5. Superintendent's Report

Salt Pond Visitor Center—funding and design

Nominations process—alternate Adv. Commission members

Highlands Center

Shuttle—Provincetown

Fort Hill—burn update

Horseshoe crabs

Outer Cape water study—USGS

6. Old Business

Commercial Certificates—Head of the Meadow Gas Station (deferred) and Jack's Gas

Adv. Commission Handbook

7. New Business

8. Agenda for next meeting

9. Date for next meeting

10. Public Comment

11. Adjournment

The meeting is open to the public. It is expected that 15 persons will be able to attend in addition to Commission members.

Interested persons may make oral/written presentations to the Commission during the business meeting or file written statements. Such requests should be made to the Superintendent at least seven days prior to the meeting. Further information concerning the meeting may be obtained from the Superintendent, Cape Cod National Seashore, 99 Marconi Site Road, Wellfleet, MA 02667.

Dated: February 22, 2000.
Maria Burks,
Superintendent.

[FR Doc. 00-4833 Filed 2-29-00; 8:45 am]

BILLING CODE 4310-70-P